SMALL BUSINESS ADMINISTRATION

SBIC License Issuance

AGENCY: U.S. Small Business Administration.

ACTION: Notice of Small Business Investment Company (SBIC) Licenses.

SUMMARY: Pursuant to the authority granted to the United States Small Business Administration under section 301(c) of the Small Business Investment Act of 1958, as amended, to grant Small Business Investment Company licenses under the Small Business Investment Company Program, this notice satisfies the requirement effective August 17, 2023 under 13 CFR 107.501(a) to publish in the Federal Register the names of SBICs with date of licensure and Total Intended Leverage Commitments. The following SBICs received SBIC licenses as of the date indicated below:

SBIC fund name | Date of licensure | Leverage tiers ¹
Bluehenge Capital SBIC III, L.P. | 12/4/2025 | 2.00X
HCAP Partners VI, L.P. | 12/8/2025 | 1.50X
Boathouse Capital IV, L.P. | 12/9/2025 | 2.00X
Spring Capital Partners V, L.P. | 12/10/2025 | 2.00X
Costella Kirsch SBIC, L.P. | 12/15/2025 | 2.00X
Gemini Investors VIII, L.P. | 12/15/2025 | 2.00X
Altimer Capital Private Credit Fund I-A, L.P. | 12/16/2025 | 2.00X
Barings Small Business Fund II, L.P. | 12/18/2025 | 2.00X
Charger Investment Partners Catalyst Fund, L.P. | 12/18/2025 | 2.00X
¹ Maximum amount of Leverage expressed as a multiple of Leverageable Capital pursuant to 13 CFR 107.1150.

Paul Van Eyl,
Director of Policy, Office of Investment and Innovation, U.S. Small Business Administration.

[FR Doc. 2026-00843 Filed 1-15-26; 8:45 am]

BILLING CODE 8026-09-P